DEPARTMENT OF ENERGY

Federal Energy Regulatory Commission

Interconnection for Wind Energy and Other Alternative Technologies [Docket No. PL04-15-000]; Standardization of Small Generator Interconnection Agreements and Procedures [Docket No. RM02-12-000]; Standardizing Generator Interconnection Agreements and Procedures; [Docket Nos. RM02-1-001, RM02-1-005]; Notice of Technical Conference

August 27, 2004.

Take notice that the Federal Energy Regulatory Commission will host a technical conference on Friday, September 24, 2004 to discuss issues raised by a petition for rulemaking submitted by the American Wind Energy Association (AWEA) related to the adoption of certain requirements for the interconnection of large wind generators. The conference will be held at the Commission's Washington, DC headquarters, 888 First St., NE., 20426. The event is scheduled to begin at 10:30 a.m. and end at approximately 4:30 p.m. (e.s.t.) in the Commission Meeting Room, Room 2-C.

The goal of the technical conference is to discuss the technical requirements for the interconnection of large and small wind generators and other alternative technologies, and the need for creating specific requirements for their interconnection to the grid. These issues include the use of non-synchronous generator and other alternative technologies that respond differently to grid disturbances and may have different effects on the grid than large, synchronous generators. AWEA's request for technical consideration is contained in a filing it made on May 20, 2004 in Docket No. RM02-1-005.

The conference is open for the public to attend, and registration is not required; however, in-person attendees are asked to register for the conference on-line by close of business on Wednesday, September 22, 2004 at http://www.ferc.gov/whats-new/registration/wind-0924-form.asp.

Parties interested in speaking at the conference should file their requests to speak no later than close of business on September 10, 2004. An on-line form requesting to speak is available at: http://www.ferc.gov/whats-new/registration/speaker-form.asp.

Topics to be discussed at this conference may include: a discussion of the AWEA proposal; the impact of the proposal on issues of reliability; the specific requirements of small wind generators; and the technical and operational needs of other alternative technologies.

Transcripts of the conference will be available for a fee from Ace Reporting Company (202-347-3700 or 1-800-336-6646) on the next business day. They will be available for the public on the Commission's eLibrary system seven calendar days after FERC receives the transcript. Additionally, Capitol Connection offers the opportunity for remote listening and viewing of the conference. It is available for a fee, live over the Internet, by phone or via satellite. Persons interested in receiving the broadcast, or who need information on making arrangements should contact David Reininger or Julia Morelli at the Capitol Connection (703-993-3100) as soon as possible or visit the Capitol Connection Web site at http://www.capitolconnection.gmu.edu and click on “FERC.”

For more information about the conference, please contact Bruce Poole at 202-502-8468 or at bruce.poole@ferc.gov.

Magalie R. Salas,
Secretary.

[FR Doc. E4-2056 Filed 9-2-04; 8:45 am]

BILLING CODE 6717-01-P